DEPARTMENT OF ENERGY

Federal Energy Regulatory Commission

[Project No. 14787-004]

Black Canyon Hydro, LLC; Notice of Intent To Prepare an Environmental Impact Statement for the Seminoe Pumped Storage Project, Schedule for Environmental Review, and Request for Comments

The staff of the Federal Energy Regulatory Commission (FERC or Commission) will prepare an environmental impact statement (EIS) that will discuss the environmental impacts of constructing and operating the proposed Seminoe Pumped Storage Project (Seminoe Project; FERC No. 14787), located at the U.S. Bureau of Reclamation's (Reclamation) Seminoe Reservoir on the North Platte River in Carbon County, Wyoming, approximately 35 miles northeast of Rawlins, Wyoming.¹ The Commission will use this EIS in its decision-making process in accordance with the National Environmental Policy Act (NEPA). The schedule for preparing the EIS is discussed in the Schedule for Environmental Review section of this notice.

¹ For tracking purposes under the National Environmental Policy Act, the unique identification number for documents relating to this environmental review is EISX-019-20-000-1742297464.

As part of the NEPA review process, the Commission takes into account concerns the public may have about proposals and the environmental impacts that could result whenever it considers the issuance of a license. This gathering of public input is referred to as “scoping.” On September 6, 2024, Commission staff issued Scoping Document 1, initiating the scoping process for the project. Commission staff conducted an environmental site visit open to the public on September 25, 2024, and held three public scoping meetings. Two scoping meetings were held in Casper, Wyoming, on September 24, 2024, and another scoping meeting was held in Rawlins, Wyoming, on September 25, 2024. A court reporter recorded oral comments made during the scoping meetings. On January 13, 2024, Commission staff issued a revised scoping document (Scoping Document 2) based on the comments received during the scoping comment period, which ended November 5, 2024. Scoping Document 2 describes the project, project alternatives, and the current view of anticipated environmental effects that will be addressed in the EIS.

In accordance with the Commission's regulations, on January 13, 2025, Commission staff issued a notice that the project was ready for environmental analysis and soliciting comments, recommendations, terms and conditions, and prescriptions (REA Notice). The comment period for the REA Notice closed on March 14, 2025. Based on the information in the record, including comments filed during scoping and in response to the REA Notice, staff has determined that licensing the project may constitute a major Federal action significantly affecting the quality of the human environment. Therefore, staff will prepare an EIS for the proposed Seminoe Project. Commission staff intends to prepare an EIS that will address the concerns raised during prior comment periods and comments received in response to this notice.

By this notice, the Commission requests any additional comments on the scope of issues to address in the EIS, including comments on potential alternatives and impacts, and any relevant information, studies, or analyses of any kind concerning impacts affecting the quality of the human environment. If you previously submitted comments and recommendations to the Commission, you do not need to file those comments and recommendations again. To ensure that your comments are timely and properly recorded, please submit your comments so that the Commission receives them in Washington, DC on or before 5:00 p.m. Eastern Time on April 28, 2025.²

² The Commission's Rules of Practice and Procedure provide that, if a filing deadline falls on a Saturday, Sunday, holiday, or other day when the Commission is not open for business, the filing deadline does not end until the close of business on the next business day. 18 CFR 385.2007(a)(2) (2024). The filing deadline is 30 days from issuance of the notice (i.e., April 27, 2025), which falls on a Sunday, thus the filing deadline is the close of business Monday, April 28, 2025.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (P-14787-004) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Summary of the Proposed Project

On January 18, 2023, rPlus Hydro, LLLP, on behalf of Black Canyon Hydro, LLC (BCH), filed an application for an original major license to construct and operate the 972-megawatt (MW) Seminoe Project. The project would occupy 1,025.94 acres of land managed by the Bureau of Land Management (BLM) and 77.00 acres managed by the Reclamation. The proposed project would involve constructing a new upper reservoir, water conveyance and maintenance tunnel system, underground powerhouse, access bridge, and two overhead transmission lines. It would use Reclamation's existing Seminoe Reservoir on the North Platte River as its lower reservoir. Project construction would take about 5 years to complete and require permanently disturbing approximately 284.0 acres of land and temporarily disturbing another 328.7 acres. The project would require 13,400 acre-feet of water from the Seminoe Reservoir to initially fill the new upper reservoir and would require approximately 672 acre-feet of make-up water annually to replace water lost due to evaporation and seepage. Once operating, the project would cycle back and forth about 10,800 acre-feet of water between the upper and lower reservoirs. The project would pump water from the lower reservoir during off-peak hours and generate electricity by discharging water from the upper reservoir through three pump-turbines each rated at 324 MW (for a combined total generating capacity of 972 MW) located in the underground powerhouse when demand is high. The project would be capable of generating 2,916 gigawatt-hours per year.

The purpose of the proposed project is to provide a new source of hydroelectric power, primarily during on-peak periods, and provide ancillary services to the electrical grid. Therefore, under the provisions of the Federal Power Act (FPA), the Commission must decide whether to issue a license to BCH for the project and what conditions should be placed on any license issued.

The NEPA Process and the EIS

The EIS issued by the Commission will discuss impacts that could occur because of the proposed project under the following relevant general resource areas:

• geology and soils resources

• aquatic resources

• terrestrial resources

• threatened and endangered species

• recreation, land use, and aesthetics

• socioeconomic resources

• cultural resources

• air quality and greenhouse gas emissions

Some of the expected effects include: (1) soil disturbance and vegetation removal, including old growth timber; (2) potential changes in water quality and quantity; (3) potential entrainment and loss of fish; (4) loss of wildlife habitat and noise effects on wildlife (including big game species); and (5) potential effects on recreation (including noise and air quality), public access, and use in the project area.

Commission staff will also make recommendations on how to lessen or avoid impacts on the various resource areas. Your comments will help Commission staff focus its analysis on the issues that may have a significant effect on the human environment.

The EIS will present Commission staff's independent analysis of the issues. Reclamation, BLM, the U.S. Fish and Wildlife Service (FWS), the U.S. Army Corps of Engineers (Corps), the Western Area Power Administration, the Saratoga-Encampment-Rawlins Conservation District, the Medicine Bow Conservation District, and the Board of Carbon County Commissioners will cooperate in preparing the EIS. A draft EIS will be issued for public comment and circulated for review by all interested parties. Commission staff will consider all timely comments received during the comment period on the draft EIS and revise the document, as necessary, before issuing a final EIS. Any draft and final EIS will be available in electronic format in the public record through eLibrary.³ If eSubscribed, you will receive instant email notification when the environmental document is issued.

³ For instructions on connecting to eLibrary, refer to the Additional Information section of this notice this notice.

Alternatives Under Consideration

As part of our review in the EIS, the Commission will consider a range of reasonable alternatives that are technically and economically feasible and meet the purpose and need for the proposed action. Alternatives that do not meet these requirements will be summarized and dismissed from further consideration in the EIS document. In addition to the proposed action, staff will consider a no-action alternative. Currently, we are also considering an alternative to the proposed action that potentially meets the above criteria: the applicants' proposed action with staff modifications.

The alternatives we are considering may be expanded based on the comments we receive, provided they meet the required criteria. With this notice, we ask commenters to identify other potential reasonable alternatives for consideration.

Schedule for Environmental Review

On February 2, 2023, the Commission issued its notice of the filing of the application for the Project. This Notice of Intent identifies Commission staff's planned schedule for completion of the final EIS for the project, which is based on an issuance of the draft EIS in September 2025, opening a 90-day public comment period.⁴ All comments filed will be reviewed by staff and considered in the Commission's final decision on the proceeding.

⁴ The project schedule includes a 90-day comment period for the draft EIS to accommodate BLM's requirements under its regulations at 43 CFR 1610.2(e).

Issuance of Notice of Availability of the final EIS—April 13, 2026

This notice identifies the Commission's anticipated schedule for issuance of the License Order for the Project, which serves as the Commission's record of decision. We currently anticipate issuing a License Order for the project no later than:

Issuance of the License Order—July 16, 2026

The schedule for issuing a draft and final NEPA document, and the License Order is consistent with the Commission's Notice of Revised Schedule for the Seminoe Pumped Storage Project issued October 18, 2024. If a schedule change becomes necessary, an additional notice will be provided so that the relevant agencies are kept informed of the project's progress.

Permits, and Authorizations

The table below lists the anticipated permits and authorizations for the project required under Federal law. This list may not be all-inclusive and does not preclude any permit or authorization if it is not listed here. Agencies with jurisdiction by law and/or special expertise may formally cooperate in the preparation of the Commission's EIS and may adopt the EIS to satisfy its NEPA responsibilities related to this project.

Agency | Permit or authorization
FERC | Non-Federal Hydropower License.
Corps | Clean Water Act Section 404 Permit.
Reclamation | Lease of Power Privilege.
BLM | Right-of-Way Permit; Resource Management Plan Amendment.
FWS | Consultation under Section 7 of the Endangered Species Act.
Wyoming State Historic Preservation Office | Consultation under Section 106 of the National Historic Preservation Act.
Wyoming Department of Environmental Quality | Clean Water Act Section 401 Water Quality Certification.

Additional Information

Additional information about the project is available on the FERC website at www.ferc.gov using the eLibrary link. Click on the eLibrary link, click on “General Search” and enter the Docket No. P-14787 in the “Docket Number” field. Be sure you have selected an appropriate date range. For assistance, please contact FERC Online Support at FercOnlineSupport@ferc.gov or (866) 208-3676, or for TTY, contact (202) 502-8659.

Any questions regarding this notice may be directed to Michael Tust at (202) 502-6522 or michael.tust@ferc.gov.

Dated: March 28, 2025.
Debbie-Anne A. Reese,
Secretary.

[FR Doc. 2025-05766 Filed 4-3-25; 8:45 am]

BILLING CODE 6717-01-P